DEPARTMENT OF TRANSPORTATION

Office of the Secretary

Notice of Applications for Certificates of Public Convenience and Necessity and Foreign Air Carrier Permits Filed Under Subpart B (formerly Subpart Q) During the Week Ending January 18, 2002

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2002-11335.

Date Filed: January 15, 2002.

Due Date for Answers, Conforming Applications, or Motion to Modify Scope: February 5, 2002.

Description: Application of Piedmont Aviation Services, Inc., d/b/a Pace Airlines (PASI), requesting the Department to disclaim jurisdiction and reissue its certificates in the name of Pace Airlines, Inc. (PACE). In the alternative, PASI requests that the Department approve the transfer of PASI's certificates of public convenience and necessity and other operating authority to PACE with an effective date of no later than January 25, 2002.

Dorothy Y. Beard,
Federal Register Liaison.

[FR Doc. 02-2354 Filed 1-30-02; 8:45 am]

BILLING CODE 4910-62-P